DEPARTMENT OF HOMELAND SECURITY

Coast Guard

33 CFR Part 100

[CGD05-06-042]

RIN 1625-AA08

Special Local Regulations for Marine Events; Susquehanna River, Port Deposit, MD

AGENCY: Coast Guard, DHS.

ACTION: Notice of enforcement of regulation.

SUMMARY: The Coast Guard will enforce the special local regulations for the “Ragin' on the River” powerboat race to be held Labor Day weekend, September 2 and 3, 2006, on the waters of the Susquehanna River, adjacent to Port Deposit, Maryland. This action is necessary to provide for the safety of life on navigable waters during the event. The effect will be to restrict general navigation in the regulated area for the safety of participants and vessels transiting the event area.

DATES: Effective Dates: 33 CFR 100.535 will be enforced from 10:30 a.m. to 6:30 p.m. on September 2 and 3, 2006. If the event is postponed due to weather, this section will be enforced during the same time period on Monday, September 4, 2006.

FOR FURTHER INFORMATION CONTACT: Ronald Houck, Coast Guard Sector Baltimore, Prevention Department, at (410) 576-2674.

SUPPLEMENTARY INFORMATION: Annually, during Labor Day weekend, the Port Deposit, Maryland Chamber of Commerce sponsors the “Ragin' on the River” powerboat race, on the waters of the Susquehanna River. The event consists of approximately 60 inboard hydroplanes and runabouts racing in heats counterclockwise around an oval racecourse. A fleet of spectator vessels is anticipated to gather nearby to view the competition. Due to the need for vessel control during the event, vessel traffic will be temporarily restricted to provide for the safety of participants, spectators and transiting vessels. In order to ensure the safety of the event participants and transiting vessels, 33 CFR 100.535 will be enforced for the duration of the event. Under provisions of 33 CFR 100.535, a vessel may not enter the regulated area unless it receives permission from the Coast Guard Patrol Commander.

In addition to this notice, the maritime community will be provided extensive advance notification via the Local Notice to Mariners, marine information broadcasts, local radio stations and area newspapers, so mariners can adjust their plans accordingly.

Dated: August 14, 2006.
L.L. Hereth,
Rear Admiral, U.S. Coast Guard, Commander, Fifth Coast Guard District.

[FR Doc. E6-14268 Filed 8-28-06; 8:45 am]

BILLING CODE 4910-15-P